DEPARTMENT OF THE INTERIOR

Bureau of Land Management

Science Advisory Board; Notice of Reestablishment

AGENCY: Bureau of Land Management, Interior.

ACTION: Science Advisory Board—Notice of Reestablishment.

SUMMARY: This notice is published in accordance with Section 9(a)(2) of the Federal Advisory Committee Act of 1972 (Pub. L. 92-463). Following consultation with the General Services Administration, notice is hereby given that the Secretary of the Interior has reestablished the Science Advisory Board.

SUPPLEMENTARY INFORMATION: The purpose of the Advisory Board is to advise and assist the Director of the Bureau of Land Management on issues pertaining to science and the application of scientific information in the management of public lands and their resources. The Advisory Board is comprised of up to nine members from among the following categories: natural resource management, energy and minerals, conservation biology, and ecology and genetics.

FOR FURTHER INFORMATION CONTACT: Lee Barkow, Bureau of Land Management, Denver Federal Center, Building 50, P.O. Box 25047, Denver, Colorado 80225-0047, (303) 236-6454.

Certification

I hereby certify that the reestablishment of the Science Advisory Board is necessary and in the public interest in connection with the Secretary of the Interior's responsibilities to manage the lands, resources and facilities administered by the Bureau of Land Management.

Dated: July 14, 2000.
Bruce Babbitt,
Secretary of the Interior.

[FR Doc. 00-18751 Filed 7-24-00; 8:45 am]

BILLING CODE 4310-84-P